DEPARTMENT OF TRANSPORTATION

Federal Aviation Administration

14 CFR Part 95

[Docket No. 31462; Amdt. No. 569]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, December 29, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on November 25, 2022.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, December 29, 2022.

PART 95—IFR ALTITUDES

1. The authority citation for part 95 continues to read as follows:

Authority: 49 U.S.C. 106(g), 40103, 40113 and 14 CFR 11.49(b)(2)

2. Part 95 is amended to read as follows:

Revisions to IFR Altitudes & Changeover Point
[Amendment 569 effective date December 29, 2022]
From | To | MEA | MAA
§ 95.3000 Low Altitude RNAV Routes
§ 95.3241 RNAV Route T241 Is Amended by Adding
LATCH, AK FIX | FOROP, AK WP | ** 1700 | 17500
* 3800—MCA | FOROP, AK WP, NE BND
** 1200—MOCA
FOROP, AK WP | AKCAR, AK WP | 4600 | 17500
AKCAR, AK WP | LEVEL ISLAND, AK VOR/DME | 4800 | 17500
LEVEL ISLAND, AK VOR/DME | ZIDRA, AK WP | 5800 | 17500
§ 95.3256 RNAV Route T256 Is Amended by Adding
SAN ANTONIO, TX VORTAC | LDRET, TX WP | 3000 | 17500
LDRET, TX WP | MOLLR, TX WP | 2400 | 17500
SABINE PASS, TX VOR/DME | GUSTI, LA FIX | 2000 | 17500
GUSTI, LA FIX | DAFLY, LA WP | 2800 | 17500
Is Amended To Delete
SAN ANTONIO, TX VORTAC | EAGLE LAKE, TX VOR/DME | 3000 | 17500
EAGLE LAKE, TX VOR/DME | MOLLR, TX WP | 2400 | 17500
§ 95.3266 RNAV Route T266 Is Amended by Adding
U.S. CANADIAN BORDER | AKCAP, AK WP | * 9100 | 17500
* 8300—MCA | AKCAP, AK WP, N BND
AKCAP, AK WP | ZEDEM, AK WP | 8100 | 17500
ZEDEM, AK WP | FEDMI, AK WP | * 8100 | 17500
* 7900—MCA | FEDMI, AK WP, N BND
FEDMI, AK WP | BAVKE, AK WP | * 7400 | 17500
* 7800—MCA | BAVKE, AK WP, SE BND
BAVKE, AK WP | ROTVE, AK WP | 8200 | 17500
ROTVE, AK WP | WONOS, AK WP | * 8200 | 17500
* 7600—MCA | WONOS, AK WP, NW BND
WONOS, AK WP | COPOG, AK WP | 7400 | 17500
COPOG, AK WP | JAPOR, AK WP | * 6900 | 17500
* 5800—MCA | JAPOR, AK WP, NW BND
JAPOR, AK WP | NIGPE, AK WP | * 5700 | 17500
* 5000—MCA | NIGPE, AK WP, NW BND
NIGPE, AK WP | GUMLE, AK WP | 4500 | 17500
GUMLE, AK WP | ZONPU, AK WP | 4200 | 17500
ZONPU, AK WP | ZADED, AK WP | * 4300 | 17500
* 5100—MCA | ZADED, AK WP, SE BND
ZADED, AK WP | RADKY, AK FIX | 6700 | 17500
NEREE, AK WP | ZIDRA, AK WP | * 4900 | 17500
* 4900—MCA | ZIDRA, AK WP, SE BND
ZIDRA, AK WP | VAZPU, AK WP | * 4900 | 17500
* 5200—MCA | VAZPU, AK WP, SE BND
Is Amended To Read in Part
RADKY, AK FIX | UNEKY, AK FIX | 7000 | 17500
UNEKY, AK FIX | XADZY, AK WP | * 6400 | 17500
* 5900—MCA | XADZY, AK WP, NW BND
XADZY, AK WP | VULHO, AK WP | 5800 | 17500
VULHO, AK WP | FOGID, AK WP | * 5300 | 17500
* 4800—MCA | FOGID, AK WP, NW BND
FOGID, AK WP | YICAX, AK WP | * 4500 | 17500
* 4800—MCA | YICAX, AK WP, SE BND
DOOZI, AK FIX | GIRTS, AK FIX | 5300 | 17500
GIRTS, AK FIX | ANNETTE ISLAND, AK VOR/DME | 5000 | 17500
§ 95.3269 RNAV Route T269 Is Amended by Adding
TOKEE, AK FIX | AKCAR, AK WP | 4700 | 17500
AKCAR, AK WP | FLIPS, AK FIX | * 5600 | 17500
* 5100—MOCA
MALAS, AK FIX | OXIDS, AK WP | * 2800 | 17500
* 2200—MCA | OXIDS, AK WP, E BND
OXIDS, AK WP | FOGNU, AK WP | 2000 | 17500
FOGNU, AK WP | HORGI, AK WP | * 2800 | 17500
* 2500—MCA | HORGI, AK WP, E BND
HORGI, AK WP | ZIXIM, AK WP | * 2400 | 17500
* 2500—MCA | ZIXIM, AK WP, W BND
ZIXIM, AK WP | JOVOM, AK WP | 3700 | 17500
JOVOM, AK WP | OXUGE, AK WP | 3700 | 17500
OXUGE, AK WP | KATAT, AK FIX | * 5200 | 17500
* 4900—MCA | KATAT, AK FIX, E BND
ACRAN, AK FIX | ZOKAM, AK WP | 5200 | 17500
ZOKAM, AK WP | VIDDA, AK FIX | * 5900 | 17500
* 3100—MCA | VIDDA, AK FIX, E BND
Is Amended To Read in Part
ANNETTE ISLAND, AK VOR/DME | TURTY, AK WP | 5600 | 17500
TURTY, AK WP | TOKEE, AK FIX | 4800 | 17500
FLIPS, AK FIX | BIORKA ISLAND, AK VORTAC | 5300 | 17500
BIORKA ISLAND, AK VORTAC | SALIS, AK FIX | * 4900 | 17500
* 4400—MOCA
SALIS, AK FIX | HAPIT, AK FIX | * 1700 | 17500
* 1200—MOCA
HAPIT, AK FIX | CENTA, AK FIX | ** 2200 | 17500
* 1700—MCA | CENTA, AK FIX, NW BND
** 1200—MOCA
CENTA, AK FIX | YAKUTAT, AK VOR/DME | * 2400 | 17500
* 2400—MCA | YAKUTAT, AK VOR/DME, W BND
YAKUTAT, AK VOR/DME | MALAS, AK FIX | * 2700 | 17500
* 2800—MCA | MALAS, AK FIX, W BND
KATAT, AK FIX | CASEL, AK FIX | 4700 | 17500
JOHNSTONE POINT, AK VOR/DME | FIMIB, AK WP | * 4000 | 17500
* 5200—MCA | FIMIB, AK WP, W BND
FIMIB, AK WP | ANCHORAGE, AK VOR/DME | * 8800 | 17500
* 6200—MCA | ANCHORAGE, AK VOR/DME, E BND
ANCHORAGE, AK VOR/DME | YONEK, AK FIX | * 3000 | 17500
* 6000—MCA | YONEK, AK FIX, W BND
YONEK, AK FIX | TORTE, AK FIX | * 5000 | 17500
* 8700—MCA | TORTE, AK FIX, W BND
TORTE, AK FIX | VEILL, AK FIX | * 10400 | 17500
* 8000—MCA | VEILL, AK FIX, E BND
VEILL, AK FIX | FAMEK, AK WP | * 7200 | 17500
* 7200—MCA | FAMEK, AK WP, E BND
FAMEK, AK WP | SPARREVOHN, AK VOR/DME | * 6600 | 17500
* 6000—MOCA
SPARREVOHN, AK VOR/DME | ACRAN, AK FIX | 5500 | 17500
BETHEL, AK VORTAC | MKLUK, AK WP | * 3200 | 17500
* 1500—MOCA
§ 95.3278 RNAV Route T278 Is Amended by Adding
CSPER, AK FIX | BIKUW, AK WP | 4800 | 17500
BIKUW, AK WP | SISTERS ISLAND, AK VORTAC | 4400 | 17500
SISTERS ISLAND, AK VORTAC | RADKY, AK FIX | 6700 | 17500
Is Amended To Delete
CSPER, AK FIX | SISTERS ISLAND, AK VORTAC | 5300 | 17500
Is Amended To Read in Part
HAPIT, AK FIX | CSPER, AK FIX | * 4000 | 17500
* 4300—MCA | CSPER, AK FIX, NE BND
§ 95.3371 RNAV Route T371 Is Added To Read
KODIAK, AK VOR/DME | JEKEX, AK FIX | 4900 | 17500
JEKEX, AK FIX | HAMPU, AK WP | 4200 | 17500
HAMPU, AK WP | AMOTT, AK FIX | 3100 | 17500
§ 95.3374 RNAV Route T374 Is Added To Read
KOTZEBUE, AK VOR/DME | CIBDU, AK WP | 2600 | 17500
CIBDU, AK WP | ZUBES, AK WP | * 10000 | 17500
* 4000—MOCA
ZUBES, AK WP | CUTIB, AK WP | * 10000 | 17500
* 4200—MOCA
CUTIB, AK WP | NINGE, AK WP | * 10000 | 17500
* 4300—MOCA
NINGE, AK WP | WUNED, AK WP | * 10000 | 17500
* 5100—MOCA
WUNED, AK WP | CEREX, AK WP | 5000 | 17500
CEREX, AK WP | WEPSI, AK WP | * 5000 | 17500
* 4600—MCA | WEPSI, AK WP, SW BND
WEPSI, AK WP | BETTLES, AK VOR/DME | * 4600 | 17500
* 4700—MCA | BETTLES, AK VOR/DME, E BND
BETTLES, AK VOR/DME | FORT YUKON, AK VORTAC | 6700 | 17500
§ 95.3377 RNAV Route T377 Is Added To Read
ANNETTE ISLAND, AK VOR/DME | INEPE, AK WP | 5500 | 17500
INEPE, AK WP | FOROP, AK WP | 4900 | 17500
FOROP, AK WP | BIORKA ISLAND, AK VORTAC | 5300 | 17500
§ 95.3378 RNAV Route T378 Is Added To Read
BRION, AK FIX | URIAL, AK WP | * 5100 | 17500
* 3300—MCA | URIAL, AK WP, SW BND
URIAL, AK WP | JIFFS, AK WP | 2900 | 17500
JIFFS, AK WP | ZUSPA, AK WP | * 2500 | 17500
* 1700—MOCA
ZUSPA, AK WP | DUTKE, AK WP | * 2500 | 17500
* 1700—MOCA
DUTKE, AK WP | FORT YUKON, AK VORTAC | * 2500 | 17500
* 1700—MOCA
§ 95.3399 RNAV Route T399 Is Added To Read
TALKEETNA, AK VOR/DME | EGRAM, AK FIX | * 6000 | 17500
* 6600—MCA | EGRAM, AK FIX, N BND
EGRAM, AK FIX | ZEKLI, AK WP | * 6400 | 17500
* 7000—MCA | ZEKLI, AK WP, N BND
ZEKLI, AK WP | AILEE, AK WP | * 10000 | 17500
* 9000—MCA | AILEE, AK WP, S BND
AILEE, AK WP | CRISL, AK WP | * 8100 | 17500
* 8000—MCA | CRISL, AK WP, S BND
CRISL, AK WP | PAWWW, AK WP | * 6900 | 17500
* 7000—MCA | PAWWW, AK WP, S BND
PAWWW, AK WP | EVIEE, AK WP | * 5800 | 17500
* 6100—MCA | EVIEE, AK WP, S BND
EVIEE, AK WP | SEAHK, AK WP | * 4000 | 17500
* 4600—MCA | SEAHK, AK WP, S BND
SEAHK, AK WP | NENANA, AK VORTAC | * 3300 | 17500
* 2800—MOCA
§ 95.3462 NAV Route T462 Is Added To Read
BISMARCK, ND VOR/DME | WISEK, ND FIX | 3900 | 17500
WISEK, ND FIX | IRIWY, ND FIX | 4000 | 17500
IRIWY, ND FIX | ABERDEEN, SD VOR/DME | 3900 | 17500
ABERDEEN, SD VOR/DME | FIBDA, SD WP | 3000 | 17500
FIBDA, SD WP | WICKA, SD FIX | 3600 | 17500
WICKA, SD FIX | FFORT, SD WP | * 3700 | 17500
* 3200—MOCA
FFORT, SD WP | DAWSO, MN WP | 3800 | 17500
DAWSO, MN WP | CLAPS, MN FIX | 2800 | 17500
CLAPS, MN FIX | FITAS, MN FIX | 2900 | 17500
FITAS, MN FIX | GENEO, MN WP | 3000 | 17500
§ 95.3464 RNAV Route T464 Is Added To Read
CUSAY, WI WP | TONOC, WI FIX | 3400 | 17500
TONOC, WI FIX | EDGRR, WI WP | 3200 | 17500
EDGRR, WI WP | HEVAV, WI WP | 3300 | 17500
HEVAV, WI WP | CHURP, WI FIX | 3100 | 17500
§ 95.3466 RNAV Route T466 Is Added To Read
SAN ANGELO, TX VORTAC | CHILD, TX FIX | 4000 | 17500
CHILD, TX FIX | JUNCTION, TX VORTAC | 4000 | 17500
JUNCTION, TX VORTAC | STONEWALL, TX VORTAC | * 4000 | 17500
STONEWALL, TX VORTAC | GOBBY, TX FIX | 4100 | 17500
GOBBY, TX FIX | BETTI, TX FIX | 3400 | 17500
BETTI, TX FIX | MARCS, TX FIX | 2900 | 17500
MARCS, TX FIX | SEEDS, TX WP | 2400 | 17500
SEEDS, TX WP | LDRET, TX WP | 3000 | 17500
LDRET, TX WP | KEEDS, TX WP | 1900 | 17500
KEEDS, TX WP | SCHOLES, TX VOR/DME | 3100 | 17500
SCHOLES, TX VOR/DME | SABINE PASS, TX VOR/DME | 2000 | 17500

From | To | MEA
§ 95.6001 Victor Routes-U.S
§ 95.6024 VOR Federal Airway V24 Is Amended To Delete
ABERDEEN, SD VOR/DME | WATERTOWN, SD VORTAC | 3600
WATERTOWN, SD VORTAC | REDWOOD FALLS, MN VOR/DME | 3800
§ 95.6026 VOR Federal Airway V26 Is Amended To Delete
EAU CLAIRE, WI VORTAC | EDGRR, WI WP
* 2900—MOCA | E BND | * 7500
| W BND | * 4500
EDGRR, WI WP | WAUSAU, WI VOR/DME | * 7500
* 3600—MOCA
* 3600—GNSS MEA
WAUSAU, WI VOR/DME | CHURP, WI FIX | * 8000
* 3000—GNSS MEA
CHURP, WI FIX | GREEN BAY, WI VORTAC | * 7000
* 2400—MOCA
§ 95.6036 VOR Federal Airway V36 Is Amended by Adding
U.S. CANADIAN BORDER U.S. | CANADIAN BORDER | * 8000
* 3000—MOCA
§ 95.6063 VOR Federal Airway V63 Is Amended To Delete
WAUSAU, WI VOR/DME | ENETE, WI FIX | UNUSABLE.
ENETE, WI FIX | YANUT, WI FIX | UNUSABLE.
YANUT, WI FIX | RHINELANDER, WI VOR/DME | UNUSABLE.
§ 95.6078 VOR Federal Airway V78 Is Amended To Delete
WATERTOWN, SD VORTAC | CLAPS, MN FIX | * 5500
* 3300—MOCA
CLAPS, MN FIX | DARWIN, MN VORTAC | 3000
§ 95.6181 VOR Federal Airway V181 Is Amended To Delete
SIOUX FALLS, SD VORTAC | WATERTOWN, SD VORTAC | 4000
WATERTOWN, SD VORTAC | BANEY, ND WP | 4500
BANEY, ND WP | FARGO, ND VOR/DME
| N BND | 2800
| S BND | 3900
§ 95.6198 VOR Federal Airway V198 Is Amended To Delete
SAN ANTONIO, TX VORTAC | SEEDS, TX WP | 2900
SEEDS, TX WP | WEMAR, TX WP | * 2500
* 2000—MOCA
WEMAR, TX WP | EAGLE LAKE, TX VOR/DME | 2000
§ 95.6212 VOR Federal Airway V212 Is Amended To Delete
SAN ANTONIO, TX VORTAC | SEEDS, TX WP | 2900
SEEDS, TX WP | WEMAR, TX WP | * 2500
* 2000—MOCA
WEMAR, TX WP | INDUSTRY, TX VORTAC | 2000
§ 95.6398 VOR Federal Airway V398 Is Amended To Delete
ABERDEEN, SD VOR/DME | WATERTOWN, SD VORTAC | 3600
WATERTOWN, SD VORTAC | REDWOOD FALLS, MN VOR/DME | 3800
§ 95.6437 VOR Federal Airway V437 Is Amended To Read in Part
ORMOND BEACH, FL VORTAC | JETSO, FL FIX | * 3000
* 1400—MOCA
JETSO, FL FIX | * SUBER, FL FIX | ** 5000
* 8000—MCA | SUBER, FL FIX, N BND
** 1300—MOCA
SUBER, FL FIX | HOTAR, FL FIX | * 8000
* 1300—MOCA
§ 95.6495 VOR Federal Airway V495 Is Amended To Read in Part
LOFAL, WA FIX | * SEATTLE, WA VORTAC | ** 4000
* 4700—MCA | SEATTLE, WA VORTAC, S BND
** 2800—MOCA
SEATTLE, WA VORTAC | CIDUG, WA FIX
| S BND | * 9000
| N BND | * 5000
* 3000—GNSS MEA
CIDUG, WA FIX | * ALDER, WA FIX
| S BND | ** 9000
| N BND | ** 5000
* 9000—MCA | ALDER, WA FIX, S BND
** 4200—GNSS MEA
ALDER, WA FIX | * TOUTL, WA FIX | ** 9000
* 9000—MCA | TOUTL, WA FIX, N BND
** 7000—GNSS MEA
§ 95.6507 VOR Federal Airway V507 Is Amended To Read in Part
WILL ROGERS, OK VORTAC | WAXEY, OK FIX
| W BND | * 9300
| E BND | * 5000
* 3400—MOCA
* 4000—GNSS MEA
WAXEY, OK FIX | ROLLS, OK FIX
| W BND | * 11000
| E BND | * 9300
* 3800—MOCA
* 4000—GNSS MEA
§ 95.6520 VOR Federal Airway V520 Is Amended To Read in Part
CLOVA, WA FIX | * NEZ PERCE, ID VOR/DME
| NE BND | 6000
| SW BND | 8000
* 10000—MCA | NEZ PERCE, ID VOR/DME, E BND
NEZ PERCE, ID VOR/DME | ZATIP, ID FIX
| E BND | 12000
| W BND | 6800
ZATIP, ID FIX | SALMON, ID VOR/DME | 12000
§ 95.6551 VOR Federal Airway V551 Is Amended To Read in Part
SALINA, KS VORTAC | MANKATO, KS VORTAC | 6000
§ 95.6556 VOR Federal Airway V556 Is Amended To Delete
STONEWALL, TX VORTAC | MARCS, TX FIX | 4500
MARCS, TX FIX | SEEDS, TX WP | * 7500
* 2000—MOCA
SEEDS, TX WP | WEMAR, TX WP | * 2500
* 2000—MOCA
WEMAR, TX WP | EAGLE LAKE, TX VOR/DME | 2000
EAGLE LAKE, TX VOR/DME | KEEDS, TX WP | 2500
KEEDS, TX WP | SCHOLES, TX VOR/DME | 3100
§ 95.6558 VOR Federal Airway V558 Is Amended To Delete
INDUSTRY, TX VORTAC | EAGLE LAKE, TX VOR/DME | 2000
§ 95.6317 Alaska VOR Federal Airway V317 Is Amended To Read in Part
LEVEL ISLAND, AK VOR/DME | HOODS, AK FIX | * 10000
* 6000—MOCA
HOODS, AK FIX | SISTERS ISLAND, AK VORTAC
| SE BND | * 10000
| NW BND | * 7000
* 5500—MOCA
§ 95.6436 Alaska VOR Federal Airway V436 Is Amended by Adding
EGRAM, AK FIX | * AILEE, AK WP | 10000
* 9000—MCA | AILEE, AK WP, S BND
AILEE, AK WP | * DATAY, AK FIX
| N BND | 8400
| S BND | 10000
* 7500—MCA | DATAY, AK FIX, S BND
DATAY, AK FIX | * ENTTA, AK FIX
| N BND | 6400
| S BND | 8400
* 5100—MCA | ENTTA, AK FIX, S BND
ENTTA, AK FIX | FAIRBANKS, AK VORTAC | 3400
Is Amended To Delete
EGRAM, AK FIX | NENANA, AK VORTAC | 10000
NENANA, AK VORTAC | GOLLY, AK FIX | 4000
GOLLY, AK FIX | TOLLO, AK FIX | * 4000
* 3400—MOCA
TOLLO, AK FIX | LIVEN, AK FIX | 5000
LIVEN, AK FIX | BEETE, AK FIX | * 10000
* 5500—MOCA
BEETE, AK FIX | CHANDALAR LAKE, AK NDB | * 10000
* 6900—MOCA
CHANDALAR LAKE, AK NDB | * ARTIC, AK WP | 10000
* 7000—MCA | ARTIC, AK WP, SE BND
ARTIC, AK WP | PIPET, AK FIX
| SE BND | * 10000
| NW BND | * 6000
* 4500—MOCA
* 5000—GNSS MEA
PIPET, AK FIX | BIXER, AK WP
| SE BND | * 10000
| NW BND | * 5000
* 3900—MOCA
* 4000—GNSS MEA
BIXER, AK WP | ARCON, AK FIX
| SE BND | 10000
| NW BND | 3000
ARCON, AK FIX | DEADHORSE, AK VOR/DME
| SE BND | 10000
| NW BND | 2000
Is Amended To Read in Part
TALKEETNA, AK VOR/DME | * EGRAM, AK FIX | 6000
* 7000—MCA EGRAM, AK FIX, N BND
§ 95.6453 Alaska VOR Federal Airway V453 Is Amended To Read in Part
KING SALMON, AK VORTAC | * DILLINGHAM, AK VOR/DME | 2100
* 2500—MCA | DILLINGHAM, AK VOR/DME, NW BND
DILLINGHAM, AK VOR/DME | ALTEY, AK FIX
| SE BND | * 7000
| NW BND | * 8000
* 6500—MOCA
* 3600—GNSS MEA
ALTEY, AK FIX | * EDUCE, AK FIX | ** 8000
* 3600—MCA | EDUCE, AK FIX, SE BND
** 6500—MOCA
EDUCE, AK FIX | BETHEL, AK VORTAC
| NW BND | * 4000
| SE BND | * 8000
* 2500—MOCA
* 3000—GNSS MEA
§ 95.6473 Alaska VOR Federal Airway V473 Is Amended To Read in Part
LEVEL ISLAND, AK VOR/DME | * FLIPS, AK FIX | ** 9000
* 9000—MCA | FLIPS, AK FIX, E BND
** 6300—MOCA

From | To | MEA | MAA
§ 95.7001 Jet Routes
§ 95.7125 Jet Route J125 Is Amended To Delete
ANCHORAGE, AK VOR/DME | TALKEETNA, AK VOR/DME | 18000 | 45000
TALKEETNA, AK VOR/DME | NENANA, AK VORTAC | 18000 | 45000
§ 95.7591 Jet Route J591 Is Amended To Delete
WHATCOM, WA VORTAC | U.S. CANADIAN BORDER | 18000 | 45000

Airway segment: From | Airway segment: To | Changeover Points: Distance | Changeover Points: From
§ 95.8003 VOR Federal Airway Changeover Point
V26 Is Amended To Delete Changeover Point
EAU CLAIRE, WI VORTAC | WAUSAU, WI VOR/DME | 71 | EAU CLAIRE.
WAUSAU, WI VOR/DME | GREEN BAY, WI VORTAC | 8 | WAUSAU.
V198 Is Amended To Delete Changeover Point
SAN ANTONIO, TX VOR/DME | EAGLE LAKE, TX VOR/DME | 63 | SAN ANTONIO.
V212 Is Amended To Delete Changeover Point
SAN ANTONIO, TX VOR/DME | EAGLE LAKE, TX VOR/DME | 63 | SAN ANTONIO.
V495 Is Amended To Delete Changeover Point
BATTLE GROUND, WA VORTAC | SEATTLE, WA VORTAC | 20 | BATTLE GROUND.
Alaska V436 Is Amended To Delete Changeover Point
TALKEETNA, AK VOR/DME | NENANA, AK VORTAC | 50 | TALKEETNA.
NENANA, AK VORTAC | CHANDALAR LAKE, AK NDB | 120 | NENANA.
CHANDALAR LAKE, AK NDB | DEADHORSE, AK VOR/DME | 63 | CHANDALAR LAKE.

[FR Doc. 2022-26394 Filed 12-2-22; 8:45 am]

BILLING CODE 4910-13-P